NUCLEAR REGULATORY COMMISSION

[Docket No. 040-08798]

Notice of Consideration of Request for License Termination of Hitchcock Industries, Inc. License and Release of Its Facility in Minneapolis, Minnesota, Amendment, and Opportunity To Provide Comments and Request a Hearing

ACTION: Notice of consideration of amendment request to terminate Source Material License No. SMB-1404 and release of facility for unrestricted use.

FOR FURTHER INFORMATION CONTACT: Dr. Peter J. Lee, Division of Nuclear Materials Safety, U.S. Nuclear Regulatory Commission, Region III, 801 Warrenville Road, Lisle, Illinois 60532-4351; telephone (630) 829-9870 or by e-mail at pjl2@nrc.gov.

SUPPLEMENTARY INFORMATION:

I. Introduction

The U.S. Nuclear Regulatory Commission (NRC) is considering the issuance of an amendment to Hitchcock Industries, Inc. (Hitchcock) Source Material License No. SMB-1404, to terminate the license and release its facility located at 8701 Harriet Avenue South in Minneapolis, Minnesota, for unrestricted use. In 1982, this license was approved for the fabrication of magnesium and thorium alloy castings for the aircraft industry. This license authorized alloying thorium ingots, containing up to 41 percent by weight of thorium, with magnesium and other additives to produce magnesium/thorium alloy castings containing up to 4 percent by weight of thorium. On January 28, 2003, Hitchcock notified the NRC of the license termination.

The NRC staff has prepared an Environmental Assessment (EA) in support of this licensing action in accordance with the requirements of 10 CFR part 51. The conclusion of the EA is a Finding of No Significant Impact (FONSI) for the proposed licensing action.

II. EA Summary

The staff has examined Hitchcock's request and the information that the licensee has provided in support of its request, including the surveys performed by Hitchcock to demonstrate compliance with 10 CFR 20.1402, “'Radiological Criteria for Unrestricted Use,”' to ensure that the NRC's decision protects the public health and safety and the environment. Based on its review, the staff has determined that the affected environment and the environmental impacts associated with the unrestricted use of Hitchcock Industries, Inc. facilities are bounded by the impacts evaluated by the “Generic Environmental Impact Statement in Support of Rulemaking on Radiological Criteria for License Termination of NRC-Licensed Nuclear Facilities” (NUREG-1496). The staff also finds that the proposed release for unrestricted use of the Hitchcock facility is in compliance with the 10 CFR part 20.1402.

III. Finding of No Significant Impact

The staff has prepared the EA (summarized above) in support of Hitchcock's proposed license amendment to release the Minneapolis facility for unrestricted use. On the basis of the EA, the staff has concluded that the environmental impacts from the proposed action would not be significant. Accordingly, the staff has determined that a FONSI is appropriate, and has determined that the preparation of an environmental impact statement is not warranted.

IV. Further Information

In accordance with 10 CFR 2.790 of the NRC's “Rules of Practice,” Hitchcock's request, the EA summarized above, and the documents related to this proposed action are available electronically for public inspection and copying from the Publicly Available Records (PARS) component of NRC's document system (ADAMS). ADAMS is accessible from the NRC Web site at http://www.nrc.gov/reading-rm.html. These documents include Hitchcock's letter dated January 28, 2003, and faxes dated April 8, 11, and 21, 2003, with enclosures (Accession

No. ML031990158); fax dated May 16, 2003, with enclosures (Accession No. ML031990380); and the EA summarized above (Accession No. ML032120132). Any questions with respect to this action should be directed to Dr. Peter J. Lee, Division of Nuclear Materials Safety, U.S. Nuclear Regulatory Commission, Region III, 801 Warrenville Road, Lisle, Illinois 60532-4351; telephone (630) 829-9870 or by e-mail at pjl2@nrc.gov.

Dated at Lisle, Illinois, this 31st day of July, 2003.
For the Nuclear Regulatory Commission.
Christopher G. Miller,
Chief, Decommissioning Branch, Division of Nuclear Materials Safety, RIII.

[FR Doc. 03-20149 Filed 8-6-03; 8:45 am]

BILLING CODE 7590-01-P